FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than June 9, 2022.

A. Federal Reserve Bank of Kansas City (Jeffrey Imgarten, Assistant Vice President) 1 Memorial Drive, Kansas City, Missouri 64198-0001:

1. The Aston McNeill Armstrong 2018 GST Exempt Trust, Sloan Armstrong Hart 2018 GST Exempt Trust, Aston McNeill Armstrong Living Trust, and Sloan Walker Armstrong Living Trust, all of Vian, Oklahoma; and Kelsi Farmer, as trustee of the aforementioned trusts, New York, New York; members of the Armstrong Family Group, a group acting in concert, to acquire additional voting shares of Ironhorse Financial Group, Inc., and thereby indirectly acquire additional voting shares of Armstrong Bank, both of Muskogee, Oklahoma.

The Lea Ann Bumpers 2022 Irrevocable Trust, Lea Ann Bumpers, as trustee, both of Little Rock, Arkansas; to join the Armstrong Family Group, to retain voting shares of Ironhorse Financial Group, Inc., and thereby indirectly retain voting shares of Armstrong Bank.

Board of Governors of the Federal Reserve System.
Margaret McCloskey Shanks,
Deputy Secretary of the Board.

[FR Doc. 2022-11284 Filed 5-25-22; 8:45 am]

BILLING CODE P